INTERNATIONAL TRADE COMMISSION

Investigation Nos. 701-TA-468 and 731-TA-1166-1167 (Second Review); Certain Magnesia Carbon Bricks From China and Mexico

Determination

On the basis of the record ¹ developed in the subject five-year reviews, the United States International Trade Commission (“Commission”) determines, pursuant to the Tariff Act of 1930 (“the Act”), that revocation of the countervailing duty order on certain magnesia carbon bricks from China and the antidumping duty orders on certain magnesia carbon bricks from China and Mexico would be likely to lead to continuation or recurrence of material injury to an industry in the United States within a reasonably foreseeable time.

¹ The record is defined in § 207.2(f) of the Commission's Rules of Practice and Procedure (19 CFR 207.2(f)).

Background

The Commission instituted these reviews on January 4, 2021 (86 FR 126) and determined on April 9, 2021 that it would conduct expedited reviews (86 FR 36770, July 13, 2021).

The Commission made these determinations pursuant to section 751(c) of the Act (19 U.S.C. 1675(c)). It completed and filed its determinations in these reviews on August 17, 2021. The views of the Commission are contained in USITC Publication 5223 (August 2021), entitled Certain Magnesia Carbon Bricks from China and Mexico: Investigation Nos. 701-TA-468 and 731-TA-1166-1167 (Second Review).

By order of the Commission.
Issued: August 17, 2021.
Lisa Barton,
Secretary to the Commission.

[FR Doc. 2021-17886 Filed 8-19-21; 8:45 am]

BILLING CODE 7020-02-P